DEPARTMENT OF HEALTH AND HUMAN SERVICES

Centers for Disease Control and Prevention

National Health And Nutrition Examination Survey III (NHANES)DNA Specimens: Guidelines for Proposals To Use Samples and Proposed Cost Schedule; Amendment

A notice announcing the availability of DNA Specimens from the National Health and Nutrition Examination Survey III (NHANES) with guidelines for proposals to use samples and a proposed cost schedule was published in the Federal Register on August 8, 2002, [Vol.67 Number 153, Pages 51585-51589]. The notice is amended as follows:

(1) On page 51585,second column under Summary: replace the first sentence of the last paragraph with: Although all researchers are encouraged to submit letters of intent, proposals will be accepted without a letter of intent. If a researcher wishes to submit a letter of intent the deadline (third column) will be extended to October 18, 2002. The NHANES program will review letters of intent to clarify any issues that may help in proposal development. Proposal application receipt deadline is November 18,2002. All other dates are not changed.

(2) On page 51585, third column under Dates: delete the second bullet, Submission of Proposals: October 7, 2002.

(3) The following clarifications are added to the potential research proposals section: page 51586, first column, under the heading Potential Research Proposals: insert the following as paragraph 1:

If several researchers submit proposals for the same genetic assessments, they may be asked to collaborate in the publication of the estimates. The willingness to do this should be addressed in the proposal.

Umbrella category A proposals where researchers collaborate to use the same set of DNA specimens, to address several specific research questions, requiring different genetic assessments, are encouraged. In this case, each research question will be reviewed as a separate entity by the Technical Panel, but the fact that only one set of specimens will be used, will be noted.

(4) On page 51588, first column, first full paragraph, replace the first sentence with the following: Although all researchers are encouraged to submit letters of intent, proposals will be accepted without a letter of intent.

(5) Also on page 51588, first column, second paragraph, replace the first sentence with the following: Letters of intent should be submitted by October 18, 2002.

(6) On page 51589, first column, under Submission of Proposals, replace the first paragraph with: The proposal application rceipt deadline is November 18, 2002.

Dated: October 8, 2002.
James D. Seligman,
Associate Director for Program Services, Centers for Disease Control and Prevention (CDC).

[FR Doc. 02-26065 Filed 10-11-02; 8:45 am]

BILLING CODE 4163-18-P